DEPARTMENT OF ENERGY

Determination Under Section 3116 of the Ronald W. Reagan National Defense Authorization Act for Fiscal Year 2005 for the Idaho Nuclear Technology and Engineering Center Tank Farm Facility at the Idaho National Laboratory

AGENCY: Department of Energy.

ACTION: Notice of availability.

SUMMARY: Section 3116 of the Ronald W. Reagan National Defense Authorization Act for Fiscal Year 2005 (NDAA) provides that certain waste from reprocessing spent nuclear fuel is not considered high-level radioactive waste (HLW) if the Secretary of Energy, in consultation with the Nuclear Regulatory Commission (NRC), determines that the waste meets the statutory criteria set forth in Section 3116(a). The Department of Energy (DOE) announces the availability of the Secretary's Section 3116 Determination for the Idaho Nuclear Technology and Engineering Center (INTEC) Tank Farm Facility (TFF), which addresses the stabilized residuals in the TFF and TFF system on the Idaho National Laboratory (INL) near Arco, Idaho, and the document that sets forth the basis for the Section 3116 Determination (Basis Document). The Section 3116 Determination sets forth the Secretarial finding that the stabilized residuals in the TFF and TFF system: (1) Do not require permanent isolation in a deep geologic repository, (2) have or will have had highly radioactive radionuclides removed to the maximum extent practical, (3) will be disposed of in accordance with NRC performance objectives for the disposal of low-level waste, (4) will be disposed of pursuant to DOE's disposal plan developed in consultation with the NRC, and (5) will be disposed of pursuant to closure plans approved by the State of Idaho. The Basis Document sets forth the facts and analyses supporting the Secretary's Section 3116 Determination. DOE's Amended Record of Decision to close the TFF pursuant to the Idaho High-Level Waste and Facilities Disposition Final Environmental Impact Statement (DOE/EIS-0287, September 2002) is being provided separately and concurrently with this Notice.

ADDRESSES: The Section 3116 Determination and the Basis Document, as well as the public comments received on the draft Section 3116 Determination, are available on the Internet at http://apps.em.doe.gov/idwd, and are publicly available for review at the following locations: U.S. DOE, Public Reading Room, 1000 Independence Avenue, SW., Room 1E-190, Washington, DC 20585, Phone: (202) 586-5955, or Fax: (202) 586-0575; and U.S. DOE, Idaho Operations Office, Public Reading Room, 850 Energy Drive, Idaho Falls, Idaho 83415-2300, Phone: 208-526-0709, Fax: 208-526-8789.

FOR FURTHER INFORMATION CONTACT: For further information on the Section 3116 Determination, contact Scott Van Camp, Assistant Manager, Facility and Materials Disposition Project, U.S. DOE, Idaho Operations Office, 1955 Fremont Avenue, MS-1222, Idaho Falls, ID 83415, Telephone: (208) 526-6503.

SUPPLEMENTARY INFORMATION: The INTEC TFF and TFF system consists of eleven 300,000-gallon belowgrade stainless-steel tanks in unlined concrete vaults, four 30,000-gallon belowgrade stainless-steel tanks, and associated ancillary equipment and piping. Historically, the TFF tanks were used to store various INTEC wastes, including those from reprocessing spent nuclear fuel, decontamination waste, laboratory waste, and contaminated liquids from other INTEC operations. DOE has initiated cleaning of the TFF and TFF system, a process that includes consolidating remaining wastes in the minimum number of tanks necessary, and then cleaning the empty tanks and ancillary equipment and piping. After completing cleaning operations, a small amount of residual radioactive waste that cannot be removed will remain in the tanks and ancillary equipment and piping. DOE plans to stabilize the residuals by filling the TFF and TFF system with grout. The Secretary's Section 3116 Determination concludes that the TFF and TFF system residuals will meet the criteria in NDAA Section 3116. Therefore, and pursuant to Section 3116, that material is not HLW. The Basis Document sets forth the reasons supporting the Section 3116 Determination. DOE's Amended Record of Decision to close the TFF pursuant to the Idaho High-Level Waste and Facilities Disposition Final Environmental Impact Statement (DOE/EIS-0287, September 2002) is being provided separately and concurrently with this notice.

Issued in Washington, DC, on November 20, 2006.
Charles E. Anderson,
Principal Deputy Assistant Secretary for Environmental Management.

[FR Doc. E6-20107 Filed 11-27-06; 8:45 am]

BILLING CODE 6450-01-P